DEPARTMENT OF ENERGY

Federal Energy Regulatory Commission

[Docket No. RP04-555-001]

Black Marlin Pipeline Company; Notice of Tariff Filing

September 10, 2004.

Take notice that on September 3, 2004, Black Marlin Pipeline Company (Black Marlin) tendered for filing as part of its FERC Gas Tariff, First Revised Volume No. 1 Twelfth Revised Sheet No. 4, with an effective date of October 1, 2004.

Black Marlin states that the filing is being made to reflect a decrease in the annual charge adjustment (ACA) charge in the usage portion of Black Marlin's rates with a proposed effective of October 1, 2004. Black Marlin states that this filing supersedes the filing which it made on August 31, 2004, which Black Marlin has withdrawn.

Black Marlin states that copies of the filing were served upon the Black Marlin's jurisdictional customers, interested State Commissions and other interested persons.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2216 Filed 9-15-04; 8:45 am]

BILLING CODE 6717-01-P